DEPARTMENT OF TRANSPORTATION

Federal Railroad Administration

Petition for Waiver of Compliance

In accordance with part 211 of Title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Union Pacific Railroad Company

[Waiver Petition Docket Number FRA-2006-23837]

The Union Pacific Railroad Company (UP) seeks a waiver of compliance from certain provisions of 49 CFR part 232, Brake System Safety Standards for Freight and Other Non-Passenger Trains and Equipment. Specifically, § 232.215, Transfer Train Brake Tests and § 232.103(e), which requires at least 85 percent of a train's brakes to be operative when moving defective equipment in a train. This relief would apply for the movement of “bad order” cuts of cars from UP's Salt Lake City North Yard to UP's Salt Lake City Roper Yard.

UP contends that the yards in question, located in Salt Lake City, Utah, consists of one large end-to-end yard, which has historically been considered separate yards—North Yard and Roper Yard. North Yard and Roper Yard are six miles apart. Both yards have a repair facility, each consisting of three repair tracks. Currently, cars that are bad ordered in North Yard are repaired at the North Yard facility and cars bad ordered in Roper Yard are repaired at the Roper Yard facility. Due to the proximity of these repair facilities, UP is considering closing the North Yard shop and having all bad orders repaired at the Roper facility.

UP contends that the movement of bad orders between Roper and North Yard should be treated as a switching move, without any air brake test requirement. If a transfer brake test is required for these repair movements, UP claims it will create a problem, since many of the cars are bad ordered for defective brakes, and at least 85 percent of the train's brakes would have to be operative in order to successfully perform a transfer train move. Accordingly, UP requests a waiver from the requirements of performing a transfer train brake test on the bad order repair movements from North Yard to Roper Yard, as well as relief from the requirements that no less than 85 percent of a train's brakes be operative for these train movements, subject to the following conditions:

1. This waiver will only apply to repair movements between Roper and North Yard.

2. After the train crew has coupled their locomotive(s) to the train, the brake hoses will be connected and the brake pipe pressure will be charged to 60 psi as indicated by an accurate gauge or an end-of-train device at the rear of the train. After brake pipe pressure has been adequately charged, the train would receive a Class III brake test as prescribed in § 232.211(b).

3. Trains will be restricted to 10 mph when moving between the two yards.

4. UP shall immediately notify FRA of any accident during these movements.

UP does not believe that safety will be compromised if the waiver is granted with the above conditions because these movements will have a certain number of operative train brakes, in addition to the locomotive brakes. UP cites that FRA has previously granted waivers allowing road trains to be moved several miles without an air brake test, FRA Docket 2002-13251 and FRA Docket 2002-13399.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2006-23837) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC on March 3, 2006.
Grady C. Cothen, Jr.,
Deputy Associate Administrator for Safety Standards and Program Development.

[FR Doc. E6-3316 Filed 3-8-06; 8:45 am]

BILLING CODE 4910-06-P